DEPARTMENT OF THE TREASURY

Open Meeting of the Advisory Committee on Risk-Sharing Mechanisms

AGENCY: Departmental Offices, U.S. Department of the Treasury.

ACTION: Notice of open meeting.

SUMMARY: This notice announces that the U.S. Department of the Treasury's Advisory Committee on Risk-Sharing Mechanisms (ACRSM or Committee) will meet via teleconference on Monday, May 11, 2020 from 10:30 a.m.-12:30 p.m. Eastern Time. The meeting is open to the public.

DATES: The meeting will be held via teleconference on Monday, May 11, from 10:30 a.m.-12:30 p.m. Eastern Time.

ADDRESSES: The Committee meeting will be held via teleconference and is open to the public. The public can attend remotely via live webcast at www.yorkcast.com/treasury/events/2020/05/11/acrsm. The webcast will also be available through the Committee's website at https://home.treasury.gov/policy-issues/financial-markets-financial-institutions-and-fiscal-service/federal-insurance-office/terrorism-risk-insurance-program/advisory-committee-on-risk-sharing-mechanisms-acrsm. Requests for reasonable accommodations under Section 504 of the Rehabilitation Act should be directed to Mariam G. Harvey, Office of Civil Rights and Diversity, Department of the Treasury at (202) 622-0316, or mariam.harvey@do.treas.gov.

FOR FURTHER INFORMATION CONTACT: Richard Ifft, Senior Insurance Regulatory Policy Analyst, Federal Insurance Office, U.S. Department of the Treasury, 1500 Pennsylvania Ave. NW, Room 1410 MT, Washington, DC 20220, at (202) 622-2922. Persons who have difficulty hearing or speaking may access this number via TTY by calling the toll-free Federal Relay Service at (800) 877-8339.

SUPPLEMENTARY INFORMATION: Notice of this meeting is provided in accordance with the Federal Advisory Committee Act, 5 U.S.C. App. 10(a)(2), through implementing regulations at 41 CFR 102-3.150.

Public Comment: Members of the public wishing to comment on the business of the ACRSM are invited to submit written statements by any of the following methods:

Electronic Statements

• Send electronic comments to acrsm@treasury.gov.

Paper Statements

• Send paper statements in triplicate to the Advisory Committee on Risk-Sharing Mechanisms, U.S. Department of the Treasury, 1500 Pennsylvania Ave. NW, Room 1410 MT, Washington, DC 20220.

In general, the U.S. Department of the Treasury will post all statements on its website https://www.treasury.gov/initiatives/fio/acrsm/Pages/default.aspx without change, including any business or personal information provided such as names, addresses, email addresses, or telephone numbers. The U.S. Department of the Treasury will also make such statements available for public inspection and copying in the U.S. Department of the Treasury's Library, 720 Madison Place NW, Room 1020, Washington, DC 20220, on official business days during normal building operations between the hours of 10:00 a.m. and 5:00 p.m. Eastern Time. You can make an appointment to inspect statements by telephoning (202) 622-2000. All statements received, including attachments and other supporting materials, are part of the public record and subject to public disclosure. You should submit only information that you wish to make available publicly.

Background: The ACRSM provides advice and recommendations to the Federal Insurance Office (FIO) with respect to the creation and development of non-governmental, private market risk-sharing mechanisms for protection against losses arising from acts of terrorism.

Tentative Agenda/Topics for Discussion: This will be the second ACRSM meeting of 2020. In this meeting, the ACRSM will address, consistent with its charter's mandate, topics related to the role of nongovernmental mechanisms in supporting the terrorism risk insurance market. Specifically, the ACRSM will discuss a draft report containing its initial recommendations to FIO generated by its various subcommittees, and vote on whether to adopt that draft report as the report of the full ACRSM, or make revisions to the draft report before voting upon it. Due to scheduling challenges, this meeting may be announced with less than 15 days notice (see 41 CFR 102-3.150(b)).

Dated: April 21, 2020.
Steven E. Seitz,
Director, Federal Insurance Office.

[FR Doc. 2020-08820 Filed 4-24-20; 8:45 am]

BILLING CODE 4810-25-P